DEPARTMENT OF ENERGY

Federal Energy Regulatory Commission

[Project No. 2727-092]

Black Bear Hydro Partners, LLC; Notice of Waiver Period for Water Quality Certification Application

On July 21, 2025, the Maine Department of Environmental Protection (Maine DEP) submitted to the Federal Energy Regulatory Commission (Commission) notice that it received a request for a Clean Water Act section 401(a)(1) water quality certification as defined in 40 CFR 121.5, from the Black Bear Hydro Partners, LLC, in conjunction with the above captioned project on June 18, 2025. Pursuant to the Commission's regulations,¹ we hereby notify the Maine DEP of the following:

¹ 18 CFR 5.23(b)(2).

Date of Receipt of the Certification Request: June 18, 2025.

Reasonable Period of Time to Act on the Certification Request: One year (June 18, 2026).

If Maine DEP fails or refuses to act on the water quality certification request on or before the above date, then the certifying authority is deemed waived pursuant to section 401(a)(1) of the Clean Water Act, 33 U.S.C. 1341(a)(1).

Dated: July 21, 2025.
Debbie-Anne A. Reese,
Secretary.

[FR Doc. 2025-13992 Filed 7-23-25; 8:45 am]

BILLING CODE 6717-01-P